DEPARTMENT OF HOMELAND SECURITY

Coast Guard

[Docket No. USCG-2010-0797]

Recognition of Foreign Certificates Under the International Convention on Standards of Training, Certification and Watchkeeping for Seafarers, 1978, as Amended, Regulation I/10

AGENCY: Coast Guard, DHS.

ACTION: Notice and request for comments.

SUMMARY: Regulation I/10 of the International Convention on Standards of Training, Certification and Watchkeeping for Seafarers, 1978, as amended, (STCW) requires Parties to the Convention to establish procedures to recognize STCW certificates issued by or under the authority of another Party. In order to start this process, the Coast Guard is developing a policy regarding the United States' recognition of foreign certificates held by foreign maritime officers who may be employed on some United States flag vessels. The Coast Guard is soliciting comments from mariners, industry, and the public to assist in development of this policy. The Coast Guard is particularly interested in identifying which United States flag vessels employ foreign citizens, the nationalities of these mariners, and the countries that issue their STCW certificates.

DATES: Comments and related material must either be submitted to our online docket via http://www.regulations.gov on or before October 27, 2010 or reach the Docket Management Facility by that date.

ADDRESSES: You may submit comments identified by docket number USCG-2010-0797 using any one of the following methods:

(1) Federal eRulemaking Po rtal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions about this notice, call or e-mail Luke B. Harden, Mariner Credentialing Program Policy Division (CG-5434), U.S. Coast Guard; telephone 202-372-1206, e-mail Luke.B.Harden@uscg.mil. If you have questions on viewing material in the docket, call Renee V. Wright, Program Manager, Docket Operations, telephone 202-366-9826.

SUPPLEMENTARY INFORMATION:

Public Participation and Request for Comments

We encourage you to submit comments and related material on the development of a policy regarding the recognition of foreign International Convention on Standards of Training, Certification and Watchkeeping for Seafarers, 1978, as amended (STCW) certificates held by foreign mariners who may be employed on United States flag vessels. All comments received will be posted, without change, to http://www.regulations.gov and will include any personal information you have provided.

Submitting comments: If you submit a comment, please include the docket number for this notice (USCG-2010-0797) and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov, click on the “submit a comment” box, which will then become highlighted in blue. In the “Document Type” drop down menu select “Notices” and insert “USCG-2010-0797” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments: To view the comments, go to http://www.regulations.gov, click on the “read comments” box, which will then become highlighted in blue. In the “Keyword” box insert “USCG-2010-0797” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act system of records notice regarding our public dockets in the January 17, 2008, issue of the Federal Register (73 FR 3316).

Background and Purpose

STCW requirements: Regulation I/10 of the STCW requires Parties to the Convention to establish procedures to recognize certificates issued to maritime officers by or under the authority of another Party. STCW also requires the flag state of a vessel to ensure that all officers serving on board hold properly recognized and endorsed credentials.

Citizenship waiver provisions within the United States Code: Title 46 of the United States Code (U.S.C.) allows the employment of foreign citizens aboard certain United States flag vessels. Specifically, 46 U.S.C. 8103(b)(3) establishes authority to waive the requirement for United States citizenship for:

(A) An offshore supply vessel or other similarly engaged vessel of less than 1,600 gross tons as measured under section 14502 of this title, or an alternate tonnage measured under section 14302 of this title as prescribed by the Secretary under section 14104 of this title that operates from a foreign port;

(B) A mobile offshore drilling unit or other vessel engaged in support of exploration, exploitation, or production of offshore mineral energy resources operating beyond the water above the outer Continental Shelf (as that term is defined in section 2(a) of the Outer Continental Shelf Lands Act (43 U.S.C. 1331(a)); and

(C) Any other vessel if the Secretary determines, after an investigation, that qualified seamen who are citizens of the United States are not available.

Need for the policy: Recognition of seafarer competence certificates from other countries would ensure compliance with the STCW Convention requirements, be in accordance with the citizenship waiver requirements in 46 U.S.C. 8103(b)(3), and help ensure that United States flagged vessels are not subject to detention in foreign ports due to allegations of improperly credentialed seafarers. It would also be done in anticipation of the regulatory changes that would be needed to bring the United States into compliance with the STCW requirements.

The Proposed Policy

Given this need, the Coast Guard is developing a policy to start establishing a process for the United States' recognition of foreign certificates held by foreign officers who may be employed on some United States flag vessels.

The Coast Guard is beginning to develop policy guidance for arrangements between parties to STCW for recognition of certificates under STCW Regulation I/10. The policy would provide guidance for Coast Guard on how and when to recognize STCW certificates issued by other countries. The policy would also provide a list of which countries' certificates may be recognized and the process used to determine that list.

As part of this policy, we expect that once the United States is satisfied that a certificate-issuing country complies with the STCW Convention requirements concerning standards of competence, the issuing and endorsement of certificates, and record keeping, both countries could sign a written formal agreement establishing recognition of each country's STCW certificates.

The proposed policy could also offer guidance for mariners and/or vessel operators/employers with regard to applying for and obtaining a United States-issued endorsement of their foreign certificates.

We welcome your comments on the above proposals. In particular, the Coast Guard is interested in the following information:

1. Which United States flag vessels employ foreign citizens?

2. What are the nationalities of foreign citizens working United States flag vessels?

3. What countries issue STCW certificates for foreign citizens working United States flag vessels?

We will review and analyze all comments received in order to develop the policy.

Authority: We issue this notice of under the authority of 5 U.S.C. 552(a) and 46 U.S.C. 8103(b)(3).

Dated: September 1, 2010.
Kevin S. Cook,
Rear Admiral, U.S. Coast Guard, Director of Prevention Policy.

[FR Doc. 2010-24154 Filed 9-24-10; 8:45 am]

BILLING CODE 9110-04-P